DEPARTMENT OF COMMERCE

International Trade Administration

Education Mission to Central America; March 16-19, 2015

AGENCY: International Trade Administration, Department of Commerce.

ACTION: Amendment.

SUMMARY: The United States Department of Commerce, International Trade Administration is amending the Notice published at 79 FR 34287, June 16, 2014, for the education mission to El Salvador and Honduras, with an optional stop in Nicaragua, from March 16-19, 2015 to revise the mission description from executive-led to non-executive led.

FOR FURTHER INFORMATION CONTACT:

U.S. Export Assistance Center Silicon Valley, Gabriela Zelaya, International Trade Specialist, Tel: 408-535-2757, ext. 107, Email: gabriela.zelaya@trade.gov.

Laura Gimenez, Commercial Officer, El Salvador, Tel: (011-503) 2501-3221, Email: laura.gimenez@trade.gov.

Aileen Nandi, Commercial Officer, El Salvador, Tel: (408) 535-2757, ext. 102, Email: aileen.nandi@trade.gov.

U.S. Export Assistance Center Lexington, Sara Moreno, International Trade Specialist, Tel: 859-225-7001, Email: sara.moreno@trade.gov.

Frank Spector,
International Trade Specialist.

[FR Doc. 2015-05595 Filed 3-11-15; 8:45 am]

BILLING CODE 3510-DR-P